DEPARTMENT OF JUSTICE

Federal Bureau of Investigation

[Docket No. FBI]

FBI Criminal Justice Information Services Division; User Fee Schedule

AGENCY: Federal Bureau of Investigation (FBI), Justice.

ACTION: Notice.

SUMMARY: The FBI is authorized to establish and collect fees for providing fingerprint-based and name-based Criminal History Record Information (CHRI) checks submitted by authorized users for noncriminal justice purposes including employment and licensing. A portion of the fee is intended to reimburse the FBI for the cost of providing fingerprint-based and name-based CHRI checks (“cost reimbursement portion” of the fee). The FBI is also authorized to charge an additional amount to defray expenses for the automation of fingerprint identification and criminal justice information services and associated costs (“automation portion” of the fee). The notice explains the methodology used to calculate revised fees and provides the revised fee schedule.

APPLICABLE DATE: This revised fee schedule is effective January 1, 2019.

FOR FURTHER INFORMATION CONTACT: Mr. John A. Traxler, Section Chief, Resources Management Section, Criminal Justice Information Services (CJIS) Division, FBI, 1000 Custer Hollow Road, Module D-3, Clarksburg, WV 26306. Telephone number 304-625-3700.

SUPPLEMENTAL INFORMATION: Pursuant to the authority in Public Law 101-515, as amended, the FBI has established user fees for authorized agencies requesting noncriminal justice fingerprint-based and name-based CHRI checks. In accordance with the requirements of Title 28, Code of Federal Regulations (CFR), Section 20.31(e), the FBI periodically reviews the process of providing fingerprint-based and name-based CHRI checks to determine the proper fee amounts which should be collected, and the FBI publishes any resulting fee adjustments in the Federal Register.

A fee study was conducted in keeping with 28 CFR 20.31(e)(2). The fee study results recommend an increase in the fingerprint-based CHRI checks from the current user fees published in the Federal Register on July 14, 2016, which have been in effect since October 1, 2016. The FBI reviewed the results of the independently conducted User Fee Study, compared the recommendations to the current fee schedule, and determined the revised fee recommendation amounts for the cost reimbursement portion of the fee were reasonable and in consonance with the underlying legal authorities.

For the automation portion of the FBI CJIS user fee rate, the current methodology has been in place since 2008. This method used the depreciation value of select capital information technology assets as the basis for the calculation. Given the considerable transformation in the business and operational environments within the FBI CJIS Division, to include changes in technology and workload, the FBI conducted an extensive business review of the automation portion of the FBI CJIS user fee rate. As a result of the review, an updated methodology for the calculation of the automation portion of the FBI CJIS user fee rate has been adopted.

The FBI is implementing a flat rate methodology for the automation portion of the FBI CJIS user fee rate. The initial flat rate is based on historical automation fund usage divided by historical volume for the same time period. The resulting per unit cost is rounded to the nearest whole dollar to arrive at a flat rate. Each time the FBI conducts a user fee study under 28 CFR 20.31 (e)(2), the amount of the flat rate will be re-evaluated to determine if an adjustment is warranted. In making this determination, consideration will be given to the following factors: Program fluctuations, available funding levels, and/or changes in legal authority. This methodology achieves the FBI's overarching objectives for program solvency, rate stability, and predictable revenue with regard to the automation portion of the fee.

Pursuant to the recommendations of the study and the revised automation methodology, the fees for fingerprint-based CHRI checks will be increased and the fee for name-based CHRI checks will remain the same for federal agencies specifically authorized by statute, e.g., pursuant to the Security Clearance Information Act, Title 5, United States Code, Section 9101.

The following tables detail the new fee amounts for authorized users requesting fingerprint-based and name-based CHRI checks for noncriminal justice purposes, including the difference from the fee schedule currently in effect.

Fingerprint-Based CHRI Checks
Service | Fee currently in effect | Fee currently in effect for CBSPs ¹ | Change in fee amount | Revised fee | Revised fee for CBSPs
Fingerprint-based Submission | $12.00 | $10.00 | $1.25 | $13.25 | ² $11.25
Fingerprint-based Volunteer Submission (See e.g., 75 FR 18752) ³ | 10.75 | 8.75 | .50 | 11.25 | ⁴ 9.25
¹ Centralized Billing Service Providers, see 75 FR 18753.
² Cost Recovery = $5.25; Automation = $6.
³ Volunteers providing care for children, the elderly, or individuals with disabilities.
⁴ Cost Recovery = $5.25; Automation = $4.

Name-Based CHRI Checks
Service | Fee currently in effect | Change in fee amount | Revised fee (no change)
Name-based Submission | $2.00 | $.00 | $2.00

Dated: September 14, 2018.
Christopher A. Wray,
Director.

[FR Doc. 2018-20644 Filed 9-21-18; 8:45 am]

BILLING CODE 4410-02-P